DEPARTMENT OF COMMERCE

International Trade Administration

[A-580-834]

Stainless Steel Sheet and Strip in Coils from the Republic of Korea; Notice of Extension of Time Limits for Final Results of Antidumping Duty Administrative Review

AGENCY: Import Administration, International Trade Administration, Department of Commerce.

EFFECTIVE DATE: July 18, 2006.

FOR FURTHER INFORMATION CONTACT: Irina Itkin or Brianne Riker, AD/CVD Operations, Office 2, Import Administration, International Trade Administration, U.S. Department of Commerce, 14th Street and Constitution Avenue, NW, Washington, DC 20230; telephone (202) 482-0656 and (202) 482-0629, respectively.

SUPPLEMENTARY INFORMATION:

Background

The Department of Commerce (the Department) published an antidumping duty order on stainless steel sheet and strip in coils (SSSSC) from the Republic of Korea on July 27, 1999. See Notice of Antidumping Duty Order; Stainless Steel Sheet and Strip in Coils From United Kingdom, Taiwan and South Korea, 64 FR 40555 (July 27, 1999). On August 29, 2005, the Department published a notice of initiation of an administrative review of the order on SSSSC from Korea for the period July 1, 2004, through June 30, 2005. See 70 FR 51009. The respondents in this administrative review are: Boorim Corporation, Dae Kyung Corporation, DaiYang Metal Co., Ltd., Dine Trading Co., Ltd., and Dosko Co., Ltd. On April 10, 2005, the Department published in the Federal Register its preliminary results. See Stainless Steel Sheet and Strip in Coils from the Republic of Korea; Preliminary Results and Partial Rescission of Antidumping Duty Administrative Review, 71 FR 18074 (Apr. 10, 2006). The final results are currently due no later than August 8, 2006.

Extension of the Time Limit for Final Results of Administrative Review

Section 751(a)(3)(A) of the Tariff Act of 1930, as amended (the Act) requires the Department to make a final determination in an administrative review within 120 days after the date on which the preliminary determination is published. However, if it is not practicable to complete the review within this time period, section 751(a)(3)(A) of the Act allows the Department to extend the time limit for the final results to 180 days (or 300 days if the Department does not extend the time limit for the preliminary results) from the date of publication of the preliminary results.

In accordance with section 751(a)(3)(A) of the Act, and 19 CFR 351.213(h)(2), the Department finds that it is not practicable to complete the review within the original time frame because analysis of the issues presented in the case briefs, including the issue related to the U.S. price adjustment for countervailing duties imposed to offset export subsidies, requires additional time. Because it is not practicable to complete this administrative review within the time limit mandated by section 751(a)(3)(A) of the Act and 19 CFR 351.213(h)(2), the Department is fully extending the time limit for completion of the final results to 300 days. Therefore, the final results are due no later than February 5, 2007, the next business day after 300 days from publication of the preliminary results.

This notice is issued and published in accordance with section 751(a)(3)(A) of the Act.

Dated: July 11, 2006.
Stephen J. Claeys,
Deputy Assistant Secretary for Import Administration.

[FR Doc. E6-11370 Filed 7-17-06; 8:45 am]

BILLING CODE 3510-DS-S